CHEMICAL SAFETY AND HAZARD INVESTIGATION BOARD

Senior Executive Service Performance Review Board

AGENCY: Chemical Safety and Hazard Investigation Board.

ACTION: Notice of members of Senior Executive Service Performance Review Board.

SUMMARY: This notice announces the membership of the Chemical Safety and Hazard Investigation Review Board (CSB) Senior Executive Service (SES) Performance Review Board (PRB).

DATES: These appointments were effective on December 3, 2019.

ADDRESSES: Send comments concerning this notice to: Maurice Hawthorne, Chemical Safety and Hazard Investigation Board, 1750 Pennsylvania Ave. NW, Suite 910, Washington, DC 20006.

FOR FURTHER INFORMATION CONTACT: Maurice Hawthorne, Human Resources Director, CSB, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations on performance ratings and awards for senior executives. Because the CSB is a small independent Federal agency, the SES members of the CSB's PRB are being drawn from other Federal agencies.

The CSB Board Member Delegated Interim Executive and Administrative Authority has appointed the following individuals to serve as members of the CSB Senior Executive Service PRB: David M. Capozzi, Director of Technical and Information Services, United States Access Board; Dolline L. Hatchett, Director, Office of Safety Recommendations and Communications, National Transportation Safety Board; and Jessica S. Bartlett, Regional Director, Federal Labor Relations Authority, Washington Regional Office.

Authority: 5 U.S.C. 4314.

Dated: December 23, 2019.
Raymond Porfiri,
Deputy General Counsel, Chemical Safety and Hazard Investigation Board.

[FR Doc. 2019-28114 Filed 12-27-19; 8:45 am]

BILLING CODE 6350-01-P